Title 3—

The President

Memorandum of May 31, 2001

Delegation of Authority Under Section 703 of the Security Assistance Act of 2000

Memorandum for the Secretary of Defense

By the authority vested in my by the Constitution and the laws of the United States of America, including section 301 of title 3, United States Code, I hereby delegate to the Secretary of Defense the authority vested in me under section 703 of the Security Assistance Act of 2000 (Public Law 106-280).

The authority delegated by this memorandum may be redelegated not lower than the Assistant Secretary level.

Any reference in this memorandum to the provision of any Act shall be deemed to include references to any hereafter-enacted provision of law that is the same or substantially the same as such provision.

You are authorized and directed to publish this memorandum in the Federal Register.

B

THE WHITE HOUSE,

Washington, May 31, 2001.

[FR Doc. 01-14955

Filed 6-11-01; 8:45 am]

Billing code 5001-08-M